Presidential Determination No. 2016-01 of October 5, 2015

Presidential Determination With Respect to Foreign Governments' Efforts Regarding Trafficking in Persons

Memorandum for the Secretary of State

Consistent with section 110 of the Trafficking Victims Protection Act of 2000 (the “Act”) (22 U.S.C. 7107), I hereby:

Make the determination provided in section 110(d)(1)(A)(i) of the Act, with respect to the Democratic People's Republic of Korea, Equatorial Guinea, Iran, South Sudan, Venezuela, Yemen, and Zimbabwe not to provide certain funding for those countries' governments for Fiscal Year (FY) 2016, until such governments comply with the minimum standards or make significant efforts to bring themselves into compliance, as may be determined by the Secretary of State in a report to the Congress pursuant to section 110(b) of the Act;

Make the determination provided in section 110(d)(1)(A)(ii) of the Act, with respect to Eritrea, Russia, and Syria not to provide certain funding for those countries' governments for FY 2016, until such governments comply with the minimum standards or make significant efforts to bring themselves into compliance, as may be determined by the Secretary of State in a report to the Congress pursuant to section 110(b) of the Act;

Determine, consistent with section 110(d)(4) of the Act, with respect to Algeria, Belarus, Belize, Burundi, the Central African Republic, Comoros, the Gambia, Guinea-Bissau, Kuwait, Libya, Marshall Islands, Mauritania, and Thailand that provision to these countries' governments of all programs, projects, or activities described in sections 110(d)(1)(A)(i)-(ii) and 110(d)(1)(B) of the Act would promote the purposes of the Act or is otherwise in the national interest of the United States;

Determine, consistent with section 110(d)(4) of the Act, with respect to Yemen, that a partial waiver to allow assistance and programs described in section 110(d)(1)(A)(i) of the Act, with the exception of International Military Education and Training, Foreign Military Financing, and Excess Defense Articles, would promote the purposes of the Act or is otherwise in the national interest of the United States;

Determine, consistent with section 110(d)(4) of the Act, with respect to South Sudan, that a partial waiver to allow assistance and programs described in section 110(d)(1)(A)(i) of the Act, with the exception of Foreign Military Financing, Foreign Military Sales, and Excess Defense Articles, would promote the purposes of the Act or is otherwise in the national interest of the United States;

Determine, consistent with section 110(d)(4) of the Act, with respect to South Sudan, that a waiver to allow assistance to be provided pursuant to section 1208 of the National Defense Authorization Act for Fiscal Year 2014 (Public Law 113-66), to the extent that such programs would otherwise be restricted by the Act, would promote the purposes of the Act or is otherwise in the national interest of the United States;

Determine, consistent with section 110(d)(4) of the Act, with respect to Venezuela, that a partial waiver to allow funding for programs described in section 110(d)(1)(A)(i) of the Act designed to strengthen the democratic process in Venezuela would promote the purposes of the Act or is otherwise in the national interest of the United States;

Determine, consistent with section 110(d)(4) of the Act, with respect to Eritrea, Russia, and Syria, that a partial waiver to allow funding for educational and cultural exchange programs described in section 110(d)(1)(A)(ii) of the Act would promote the purposes of the Act or is otherwise in the national interest of the United States;

Determine, consistent with section 110(d)(4) of the Act, with respect to Equatorial Guinea, that a partial waiver to allow funding described in section 110(d)(1)(A)(i) of the Act to build the capacity of countries to prevent, detect, and respond to infectious diseases; deliver self-help to vulnerable individuals and communities; and support the participation of government employees or officials in young leader exchanges programming would promote the purposes of the Act or is otherwise in the national interest of the United States;

Determine, consistent with section 110(d)(4) of the Act, with respect to Equatorial Guinea, South Sudan, Syria, Venezuela, and Yemen, that assistance described in section 110(d)(1)(B) of the Act would promote the purposes of the Act or is otherwise in the national interest of the United States;

Determine, consistent with section 110(d)(4) of the Act, with respect to Zimbabwe, that a partial waiver to continue humanitarian demining initiatives and support programs described in section 110(d)(1)(A)(i) of the Act for assistance for victims of trafficking in persons or to combat such trafficking, and for programs that promote health, disease prevention, good governance, education, leadership, agriculture and food security, poverty reduction, livelihoods, family planning and reproductive health, macroeconomic growth, and biodiversity and wildlife protection, and that would have a significant adverse effect on vulnerable populations if suspended, would promote the purposes of the Act or is otherwise in the national interest of the United States;

And determine, consistent with section 110(d)(4) of the Act, with respect to Zimbabwe, that assistance described in section 110(d)(1)(B) of the Act, which:

(1) is a regional program, project, or activity under which the total benefit to Zimbabwe does not exceed 10 percent of the total value of such program, project, or activity;

(2) has as its primary objective the addressing of basic human needs, as defined by the Department of the Treasury with respect to other, existing legislative mandates concerning U.S. participation in the multilateral development banks;

(3) is complementary to or has similar policy objectives to programs being implemented bilaterally by the United States Government;

(4) has as its primary objective the improvement of Zimbabwe's legal system, including in areas that impact Zimbabwe's ability to investigate and prosecute trafficking cases or otherwise improve implementation of its anti-trafficking policy, regulations, or legislation;

(5) is engaging a government, international organization, or civil society organization, and seeks as its primary objective(s) to: (a) increase efforts to investigate and prosecute trafficking in persons crimes; (b) increase protection for victims of trafficking through better screening, identification, rescue and removal, aftercare (shelter, counseling), training, and reintegration; or (c) expand prevention efforts through education and awareness campaigns highlighting the dangers of trafficking in persons or training and economic empowerment of populations clearly at risk of falling victim to trafficking; or

(6) is targeted macroeconomic assistance from the International Monetary Fund that strengthens the macroeconomic management capacity of Zimbabwe, would promote the purposes of the Act or is otherwise in the national interest of the United States.

The certification required by section 110(e) of the Act is provided herewith.

You are hereby authorized and directed to submit this determination to the Congress, and to publish it in the Federal Register.

THE WHITE HOUSE,

Washington, October 5, 2015

[FR Doc. 2015-26496

Filed 10-15-15; 8:45 am]

Billing code 4710-10-P